DEPARTMENT OF TRANSPORTATION

Federal Highway Administration

Agency Information Collection Activities: Submission for OMB Review

AGENCY: Federal Highway Administration (FHWA), DOT.

ACTION: Notice.

SUMMARY: The FHWA has forwarded the information collection requests described in this notice to the Office of Management and Budget (OMB) for review and comment. We published a Federal Register Notice with a 60-day public comment period on these information collections on November 6, 2000 (65 FR 66578). We are required to publish this notice in the Federal Register by the Paperwork Reduction Act of 1995.

DATES: Please submit comments by April 27, 2001.

ADDRESSES: You may send comments to the Office of Information and Regulatory Affairs, Office of Management and Budget, 725 17th Street, NW., Washington, DC 20503, Attention: DOT Desk Officer. You are asked to comment on any aspect of these information collections, including: (1) Whether the proposed collections are necessary for the FHWA's performance; (2) the accuracy of the estimated burdens; (3) ways for the FHWA to enhance the quality, usefulness, and clarity of the collected information; and (4) ways that the burdens could be minimized, including the use of electronic technology, without reducing the quality of the collected information.

SUPPLEMENTARY INFORMATION: 1. OMB Control Number: 2125-0529 (Expiration Date: May 31, 2001).

Title: Preparation and Execution of the Project Agreement and Modifications.

Abstract: Formal agreements between State transportation departments and the FHWA are required for Federal-aid highway projects. These agreements, referred to as “project agreements” are written contracts between the State and the Federal government that define the extent of work to be undertaken and commitments made concerning a highway project. Section 1305 of the Transportation Equity Act for the 21st Century (TEA-21, Pub. L. 105-178) amended 23 U.S.C. 106(a) and combined authorization of work and execution of the project agreement for a Federal-aid project into a single action. States continue to have the flexibility to use whatever format is suitable to provide the statutory information required, and burden estimates for this information collection are not changed.

Respondents: 50 State Transportation Departments, the District of Columbia, the Commonwealth of Puerto Rico, the Commonwealth of the Northern Mariana Islands, and the Territories of Guam, the Virgin Islands and American Samoa.

Estimated Total Annual Burden: 12,040 hours. There are an average of 215 annual agreements per respondent. Each agreement requires approximately one hour to complete.

FOR FURTHER INFORMATON CONTACT: Mr. Jack Wasley, (202) 366-4658, Infrastructure Core Business Unit, Federal Highway Administration, Department of Transportation, 400 7th Street, SW., Washington, DC 20590-0001. Office hours are from 7:30 a.m. to 4:30 p.m., Monday through Friday, except Federal holidays.

2. OMB Control Number: 2125-0562 (Expiration Date May 31, 2001).

Title: Nationwide Survey of “Public Roads” Readers.

Abstract: “Public Roads” is a bimonthly magazine published by the FHWA. The FHWA conducts periodic surveys of its readers to improve the quality and content of the magazine. Executive Order 12862 requires all agencies to identify their customers, survey their satisfaction with current services, set standards for service and measure results against them. The results of ongoing surveys will be used to gauge overall reader satisfaction and solicit feedback for improvements.

Respondents: Approximately 1,500 paid and complementary subscribers to “Public Roads” magazine.

Frequency: Approximately every 3 years.

Estimated Total Annual Burden: 375 hours. The average burden per response is 15 minutes.

FOR FURTHER INFORMATON CONTACT: Ms. Martha Soneira, 202-493-3468, Department of Transportation, Federal Highway Administration, Research, Development and Technology Service Business Unit, Turner-Fairbank Highway Research Center, 6300 Georgetown Pike, McLean, VA 22101. Office hours are from 7:30 a.m. to 4:30 p.m., Monday through Friday, except Federal holidays.

3. OMB Control Number: 2125-0525 (Expiration Date: May 31, 2001).

Title: Emergency Relief Funding Applications.

Abstract: Section 125 of Title 23 United States Code requires States to submit applications to the FHWA for emergency relief (ER) funds. The ER funds are established for the repair or reconstruction of Federal-aid highways and Federal roads which have suffered serious damage by natural disasters over a wide area or serious damage from catastrophic failures. The information is needed for the FHWA to fulfill its statutory obligations regarding funding determinations on emergency work to repair highway facilities. The requirements covering the FHWA ER program are contained in 23 CFR part 668.

Respondents: 50 State Transportation Departments, the District of Columbia, the Commonwealth of Puerto Rico, the Commonwealth of the Northern Mariana Islands, and the Territories of Guam, the Virgin Islands and American Samoa.

Frequency: As required.

Estimated Total Annual Burden: 6,000 hours. 200 hours per application for an average of 30 annual applications.

FOR FURTHER INFORMATON CONTACT: Mr. Mohan Pillay, 202-366-4655, Department of Transportation, Federal Highway Administration, Infrastructure Core Business Unit, 400 Seventh Street, SW., Washington, DC 20590. Office hours are from 7:30 a.m. to 4:30 p.m., Monday through Friday, except Federal holidays.

Authority: The Paperwork Reduction Act of 1995; 44 U.S.C. Chapter 35, as amended; and 49 CFR 1.48.

Issued on: March 21, 2001.
James R. Kabel,
Chief, Management Programs and Analysis Division.

[FR Doc. 01-7617 Filed 3-27-01; 8:45 am]

BILLING CODE 4910-22-P